DEPARTMENT OF VETERANS AFFAIRS (VA)

Department of Veterans Affairs (VA) Claims Processing Task Force, Notice of Establishment

As required by Section 9(a)(2) of the Federal Advisory Committee Act, U.S.C. (App. 1) 9(c), the Department of Veterans Affairs (VA) hereby gives notice of the establishment of the VA Claims Processing Task Force. The Secretary of Veterans Affairs has determined that establishing this Task Force is in the public interest.

The Task Force will critique the Veterans Benefits Administration's (VBA) organization and management with a primary focus on the compensation and pension processes. The Task Force will evaluate the procedures and processes for deciding veterans' appeals of VBA rating decisions. The Task Force will also assess various issues and develop findings that are aimed at improving VA's ability to process veterans' claims for disability compensation and pension.

The Task Force will report to the Secretary recommendations that VA can take to increase productivity, reduce claims processing times, and shrink the disability claims backlog without compromising either the accuracy of decisions or service to the Nation's veterans.

The Task Force will consist of ten (10) to eleven (11) members and a Chairperson. Selection criteria for Task Force membership will be based on expertise in areas such as organizational assessment, functional analysis, evaluation of existing practices, and improving operational processes. VA will give attention to equitable geographic distribution and to ethnic and gender representation when appointing Task Force members.

The Designated Federal Officer for the Task Force is John R. O'Hara. His phone number is (202) 273-5130.

Dated: April 27, 2001.
By Direction of the Secretary.
Robert W. Schultz,
Acting Assistant Secretary for Human Resources and Administration.

[FR Doc. 01-11029 Filed 5-1-01; 8:45 am]

BILLING CODE 8320-01-U